DEPARTMENT OF COMMERCE

International Trade Administration

[A-489-844]

Certain Aluminum Foil From the Republic of Turkey: Preliminary Results of Antidumping Duty Administrative Review; 2021-2022

AGENCY: Enforcement and Compliance, International Trade Administration, Department of Commerce.

SUMMARY: The U.S. Department of Commerce (Commerce) preliminarily finds that the certain producers/exporters subject to this administrative review made sales of subject merchandise at less than normal value (NV) during the period of review (POR) September 23, 2021, through October 31, 2022. Interested parties are invited to comment on these preliminary results.

DATES: Applicable December 7, 2023.

FOR FURTHER INFORMATION CONTACT: Christopher Williams or Bryan Hansen, AD/CVD Operations, Office I, Enforcement and Compliance, International Trade Administration, U.S. Department of Commerce, 1401 Constitution Avenue NW, Washington DC 20230; telephone: (202) 482-5166 or (202) 482-3683, respectively.

SUPPLEMENTARY INFORMATION:

Background

On November 12, 2021, Commerce published in the Federal Register the antidumping duty order on certain aluminum foil (aluminum foil) from the Republic of Turkey (Turkey).¹ On November 1, 2022, we published in the Federal Register a notice of opportunity to request an administrative review of the Order for the POR.² On January 3, 2023, based on timely requests for an administrative review, Commerce initiated an administrative review of the Order with respect to four companies.³ On January 26, 2023, Commerce selected the Assan Single Entity ⁴ for individual examination as a mandatory respondent in this administrative review.⁵ On May 5, 2023, Commerce selected ASAS Aluminyum Sanayi Ve Ticaret (ASAS) as an additional mandatory respondent in this administrative review.⁶

¹ See Certain Aluminum Foil from the Republic of Armenia, Brazil, the Sultanate of Oman, the Russian Federation, and the Republic of Turkey: Antidumping Duty Orders, 86 FR 62790 (November 12, 2021) (Order).

² See Antidumping or Countervailing Duty Order, Finding, or Suspended Investigation; Opportunity To Request Administrative Review and Join Annual Inquiry Service List, 87 FR 65750 (November 1, 2022).

³ See Initiation of Antidumping and Countervailing Duty Administrative Reviews, 88 FR 50, 55 (January 3, 2023) (Initiation Notice).

⁴ Commerce previously determined that Assan Aluminyum Sanayi ve Ticaret A.S., Kibar Dis Ticaret A.S., and Ispak Esnek Ambalaj Sanayi A.S., comprise the Assan Single Entity. See Certain Aluminum Foil from the Republic of Turkey: Final Affirmative Determination of Sales at Less Than Fair Value, 86 FR 52880 n.10 (September 23, 2021); see also Initiation Notice, 88 FR at 51 (“Commerce will not conduct collapsing analyses at the respondent selection phase of this review and will not collapse companies at the respondent selection phase unless there has been a determination to collapse certain companies in a previous segment of this {antidumping duty} proceeding (e.g., investigation, administrative review, new shipper review, or changed circumstances review).”).

⁵ See Memorandum, “Respondent Selection,” dated January 26, 2023.

⁶ See Memorandum, “Additional Respondent Selection,” dated May 5, 2023.

On July 6, 2023, Commerce extended the time limit for these preliminary results to November 17, 2023.⁷ On November 13, 2023, Commerce, again, extended the time limit for these preliminary results to November 30, 2023.⁸ For a complete description of the events between the initiation of the administrative review and these preliminary results, see the Preliminary Decision Memorandum.⁹

⁷ See Memorandum, “Extension of Deadline for Preliminary Results of Antidumping Duty Administrative Review; 2021-2022,” dated July 6, 2023.

⁸ See Memorandum, “Extension of Deadline for Preliminary Results of Antidumping Duty Administrative Review; 2021-2022,” dated November 13, 2023.

⁹ See Memorandum, “Certain Aluminum Foil from the Republic of Turkey: Decision Memorandum for the Preliminary Results of Antidumping Duty Administrative Review; 2021-2022,” dated concurrently with, and hereby adopted by, this notice (Preliminary Decision Memorandum).

A list of the topics discussed in the Preliminary Decision Memorandum is attached as the appendix to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

Scope of the Order

The merchandise covered by the Order is aluminum foil from Turkey. For a full description of the scope of the Order, see the Preliminary Decision Memorandum.

Methodology

Commerce is conducting this review in accordance with section 751(a) of the Tariff Act of 1930, as amended (the Act). We calculated export price and constructed export price in accordance with section 772 of the Act, and we calculated NV in accordance with section 773 of the Act. For a full description of the methodology underlying these preliminary results, see the Preliminary Decision Memorandum.

Rate for Non-Examined Companies

The statute and Commerce's regulations do not address the establishment of a rate to be applied to companies not selected for individual examination when Commerce limits its examination in an administrative review pursuant to section 777A(c)(2) of the Act. Generally, Commerce looks to section 735(c)(5) of the Act, which provides instructions for calculating the all-others rate in a less-than-fair-value (LTFV) investigation, for guidance when calculating the weighted-average dumping margin for companies which were not selected for individual examination in an administrative review. Under section 735(c)(5)(A) of the Act, the all-others rate is normally “an amount equal to the weighted-average of the estimated weighted-average dumping margins established for exporters and producers individually investigated, excluding any zero or de minimis margins, and any margins determined entirely {on the basis of facts available}.”

In this administrative review, Commerce calculated individual weighted-average dumping margins for the Assan Single Entity and ASAS, the two mandatory respondents, that are not zero, de minimis, or based entirely on facts otherwise available. Because the calculated individual weighted-average dumping margins are not zero, de minimis, or based entirely on facts otherwise available, Commerce calculated the rate for non-examined companies using a weighted average of the weighted-average dumping margins calculated for the mandatory respondents using each company's publicly-ranged U.S. sales values for the merchandise under consideration, consistent with the guidance in section 735(c)(5)(B) of the Act.¹⁰

¹⁰ With rates for two examined respondents, Commerce normally calculates: (A) a weighted-average of the weighted-average dumping margins calculated for the examined respondents using each company's actual total U.S. sales value; (B) a simple average of the weighted-average dumping margins calculated for the examined respondents; and (C) a weighted-average of the weighted-average dumping margins calculated for the examined respondents using each company's publicly-ranged total U.S. sales value. Commerce then compares (B) and (C) to (A), and, in order to not reveal the business proprietary total U.S. sales value of the two examined respondents, selects the rate closest to (A) as the most appropriate rate for the non-examined companies. See Memorandum, “Certain Aluminum Foil from Turkey: Preliminary Rate for Non-Selected Respondents,” dated November 30, 2023; see also Ball Bearings and Parts Thereof from France, Germany, Italy, Japan, and the United Kingdom: Final Results of Antidumping Duty Administrative Reviews, Final Results of Changed-Circumstances Review, and Revocation of an Order in Part, 75 FR 53661, 53662 (September 1, 2010), and accompanying Issues and Decision Memorandum at Comment 1.

Preliminary Results of Review

We preliminarily determine that the following estimated weighted-average dumping margins exist for the period September 23, 2021, through October 31, 2022:

Producer and/ or exporter | Weighted-average dumping margin (percent)
ASAS Aluminyum Sanayi Ve Ticaret | 1.33
Assan Single Entity ¹¹ | 1.30
Ilda Pack Ambalaj | 1.30
Panda Aluminyum A.S | 1.30

Disclosure and Public Comment

We intend to disclose the calculations performed for these preliminary results to interested parties within five days after the date of publication of this notice.¹² Pursuant to 19 CFR 351.309(c)(1)(ii), interested parties may submit case briefs to Commerce no later than 30 days after the date of publication of this notice.¹³ Rebuttal briefs, limited to issues raised in the case briefs, may be filed not later than five days after the date for filing case briefs.¹⁴

¹¹ The Assan Single Entity consists of Assan Aluminyum Sanayi ve Ticaret A.S., Kibar Dis Ticaret A.S., and Ispak Esnek Ambalaj Sanayi A.S. See also Initiation Notice, 88 FR at 55.

¹² See 19 CFR 351.224(b).

¹³ See also 19 CFR 351.303 (for general filing requirements).

¹⁴ See 19 CFR 351.309(d)(1); see also Administrative Protective Order, Service, and Other Procedures in Antidumping and Countervailing Duty Proceedings, 88 FR 67069, 67077 (September 29, 2023).

Interested parties who submit case briefs or rebuttal briefs in this proceeding must submit: (1) a table of contents listing each issue; and (2) a table of authorities.¹⁵ As provided under 19 CFR 351.309(c)(2) and (d)(2), in prior proceedings we have encouraged interested parties to provide an executive summary of their brief that should be limited to five pages total, including footnotes. In this review, we instead request that interested parties provide at the beginning of their briefs a public, executive summary for each issue raised in their briefs.¹⁶ Further, we request that interested parties limit their executive summary of each issue to no more than 450 words, not including citations. We intend to use the executive summaries as the basis of the comment summaries included in the issues and decision memorandum that will accompany the final results in this administrative review. We request that interested parties include footnotes for relevant citations in the executive summary of each issue.

¹⁵ See 19 351.309(c)(2) and (d)(2).

¹⁶ We use the term “issue” here to describe an argument that Commerce would normally address in a comment of the Issues and Decision Memorandum.

Pursuant to 19 CFR 351.310(c), interested parties who wish to request a hearing must submit a written request to the Assistant Secretary for Enforcement and Compliance, filed electronically via ACCESS. Requests should contain: (1) the party's name, address, and telephone number; (2) the number of participants; and (3) a list of issues to be discussed. Issues raised in the hearing will be limited to those raised in the respective case briefs.

All submissions, including case and rebuttal briefs, as well as hearing requests, should be filed using ACCESS.¹⁷ An electronically filed document must be received successfully in its entirety by ACCESS by 5:00 p.m. Eastern Time on the established deadline. Note that Commerce has amended certain of its requirements pertaining to the service of documents in 19 CFR 351.303(f).¹⁸

¹⁷ See 19 CFR 351.303.

¹⁸ See Administrative Protective Order, Service, and Other Procedures in Antidumping and Countervailing Duty Proceedings; Final Rule, 88 FR 67069 (September 29, 2023).

Final Results of Review

Unless otherwise extended, Commerce intends to issue the final results of this administrative review, including the results of its analysis of issues raised in written briefs, not later than 120 days after the publication of this notice in the Federal Register, pursuant to 751(a)(3)(A) of the Act and 19 CFR 351.213(h)(1).

Assessment of Antidumping Duties

Upon completion of the final results of this administrative review, pursuant to section 751(a)(2)(A) of the Act, Commerce shall determine, and the U.S. Customs and Border Protection (CBP) shall assess, antidumping duties on all appropriate entries of subject merchandise covered by this review.¹⁹

¹⁹ See 19 CFR 351.212(b)(1).

If an examined respondent's weighted-average dumping margin is not zero or de minimis (i.e., less than 0.5 percent) in the final results of this review, we intend to calculate an importer-specific assessment rate for antidumping duties based on the ratio of the total amount of dumping calculated for each importer's examined sales and the total entered value of those same sales in accordance with 19 CFR 351.212(b)(1). For the companies identified above that were not selected for individual examination, we will instruct CBP to assess antidumping duties at a rate equal to the weighted-average dumping margin established in the final results of review. If the respondent's weighted-average dumping margin or an importer-specific assessment rate is zero or de minimis in the final results of this review, we intend to instruct CBP to liquidate the appropriate entries without regard to antidumping duties.

For entries of subject merchandise during the POR produced by either of the individually examined respondents for which they did not know that the merchandise was destined for the United States, we will instruct CBP to liquidate these entries at the all-others rate if there is no rate for the intermediate company(ies) involved in the transaction.²⁰

²⁰ See Antidumping and Countervailing Duty Proceedings: Assessment of Antidumping Duties, 68 FR 23954 (May 6, 2003).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

The final results of this administrative review shall be the basis for the assessment of antidumping duties on entries of merchandise covered by the final results of this review and for future deposits of estimated duties, where applicable.²¹

²¹ See section 751(a)(2)(C) of the Act.

Cash Deposit Requirements

The following cash deposit requirements for estimated antidumping duties will be effective upon publication in the Federal Register of the notice of the final results of this review for all shipments of aluminum foil from Turkey entered, or withdrawn from warehouse, for consumption on or after the date of publication as provided by section 751(a)(2) of the Act: (1) the cash deposit rate for companies subject to this review will be equal to the weighted-average dumping margins established in the final results of the review; (2) for merchandise exported by companies not covered in this review but covered in a prior completed segment of this proceeding, the cash deposit rate will continue to be the company-specific rate published in the completed segment for the most recent period; (3) if the exporter is not a firm covered in this review, a prior review, or the investigation but the producer is, then the cash deposit rate will be the rate established in the most recently completed segment of this proceeding for the producer of the merchandise; and (4) the cash deposit rate for all other producers or exporters will continue to be 1.95 percent, the all-others rate established in the LTFV investigation, adjusted for the export-subsidy rate in the companion countervailing duty investigation.²² These cash deposit requirements, when imposed, shall remain in effect until further notice.

²² See Order, 86 FR at 62792.

Notification to Importers

This notice serves as a preliminary reminder to importers of their responsibility under 19 CFR 351.402(f)(2) to file a certificate regarding the reimbursement of antidumping and/or countervailing duties prior to liquidation of the relevant entries during this POR. Failure to comply with this requirement could result in Commerce's presumption that reimbursement of antidumping and/or countervailing duties occurred and the subsequent assessment of double antidumping duties, and/or an increase in the amount of antidumping duties by the amount of countervailing duties.

Notification to Interested Parties

We are issuing and publishing these preliminary results in accordance with sections 751(a)(1) and 777(i)(1) of the Act, and 19 CFR 351.213 and 19 CFR 351.221(b)(4).

Dated: November 30, 2023.
Abdelali Elouaradia,
Deputy Assistant Secretary for Enforcement and Compliance.

Appendix

List of Topics Discussed in the Preliminary Decision Memorandum

I. Summary

II. Background

III. Scope of the Order

IV. Rate for Non-Examined Companies

V. Discussion of the Methodology

VI. Currency Conversion

VII. Recommendation

[FR Doc. 2023-26859 Filed 12-6-23; 8:45 am]

BILLING CODE 3510-DS-P